DEPARTMENT OF ENERGY

Office of Energy Efficiency and Renewable Energy

Certification Reports, Compliance Statements, Application for a Test Procedure Waiver, and Recordkeeping for Consumer Products and Commercial/Industrial Equipment Subject to Federal Energy or Water Conservation Standards

AGENCY: Office of Energy Efficiency and Renewable Energy, U.S. Department of Energy.

ACTION: Proposed information collection; request for comments.

SUMMARY: The U.S. Department of Energy (DOE) invites public comment on a proposed collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Written comments must be submitted on or before February 24, 2014.

ADDRESSES: Direct all written comments to Ms. Ashley Armstrong, U.S. Department of Energy, Office of Energy Efficiency and Renewable Energy, Building Technologies Program, EE-2J, 1000 Independence Avenue SW., Washington, DC 20585-0121. Email: certification_compliance_enforcement@ee.doe.gov.

FOR FURTHER INFORMATION CONTACT: Requests for additional information or copies of the information collection instrument and instructions should be directed to Ashley Armstrong at Ashley.Armstrong@ee.doe.gov.

SUPPLEMENTARY INFORMATION: This information collection request contains: (1) OMB No. 1910-1400;

(2) Information Collection Request Title: Certification Reports, Compliance Statements, Application for a Test Procedure Waiver, and Recordkeeping for Consumer Products and Commercial/Industrial Equipment subject to Energy or Water Conservation Standards;

(3) Type of Request: Renewal;

(4) Purpose: DOE is seeking approval to collect information from manufacturers and to require that manufacturers retain records of covered consumer products and commercial and industrial equipment pursuant to Title III of the Energy Policy and Conservation Act of 1975, as amended (“EPCA”), 42 U.S.C. 6291 et seq. The EPCA sets forth a variety of provisions designed to improve energy efficiency. Part A of Title III (42 U.S.C. 6291-6309) of the EPCA provides for the Energy Conservation Program for Consumer Products Other Than Automobiles.

The Energy Conservation Program for Consumer Products Other Than Automobiles consists of four parts: (1) Testing, (2) labeling, (3) Federal energy conservation standards, and (4) certification and enforcement procedures. The testing requirements consist of test procedures that manufacturers of covered products must use (1) as the basis for certifying to DOE that their products comply with the applicable energy conservation standards adopted under the EPCA, and (2) for making representations about the efficiency of those products. DOE must use these test requirements to determine whether the products comply with any relevant standards promulgated under the EPCA.

DOE is renewing its information collection on the energy and water efficiency of consumer products and commercial equipment manufactured for distribution in commerce in the United States. Under the Energy Conservation Program for Consumer Products Other Than Automobiles DOE requires that manufacturers: (1) Submit certification and compliance reports for each basic model distributed in commerce in the U.S.; (2) maintain records underlying the certified ratings for each basic model including test data and the associated calculations; and (3) submit an application for a test procedure waiver for which manufacturers may elect to submit if they manufacturer a basic model that cannot be tested pursuant to the DOE test procedure.

DOE currently requires manufacturers or their party representatives to prepare and submit certification reports and compliance statements using DOE's electronic Web-based tool, the Compliance and Certification Management System (CCMS), which is the only mechanism for submitting certification reports to DOE. CCMS currently has product specific templates which manufacturers are required to use when submitting certification data to DOE. See http://www.regulations.doe.gov/ccms. DOE believes the availability of electronic filing through the CCMS system reduces reporting burdens, streamlines the process, and provides the Department with needed information in a standardized, more accessible form. This electronic filing system also ensures that records are recorded in a permanent, systematic way.

Covered products and equipment are described in 10 CFR parts 429, 430, and 431. They generally include: (1) Residential refrigerators, refrigerator-freezers and freezers; (2) Room air conditioners; (3) Central air conditioners and heat pumps, including SDHV and Space-Constrained; (4) Residential water heaters; (5) Residential furnaces, including boilers; (6) Dishwashers; (7) Residential clothes washers; (8) Residential clothes dryers; (9) Direct heating equipment; (10) Conventional cooking tops, conventional ovens, microwave ovens; (11) Pool heaters; (12) Fluorescent lamp ballasts; (13) General service fluorescent lamps, general service incandescent lamps, and incandescent reflector lamps; (14) Faucets; (15) Showerheads; (16) Water closets; (17) Urinals; (18) Ceiling fans; (19) Ceiling fan light kits; (20) Torchieres; (21) Compact fluorescent lamps; (22) Dehumidifiers; (23) Class A external power supplies; (24) Non-class A external power supplies; (25) Battery chargers; (26) Candelabra base incandescent lamps and intermediate base incandescent lamps; (27) Electric motors; (28) Small electric motors; (29) Commercial refrigerators, freezers, and refrigerator-freezers; (30) Commercial air conditioners and heat pumps (air-cooled, water-cooled, and water-sourced); (31) Packaged terminal air conditioners and heat pumps; (32) Single package vertical units; (33) Variable refrigerant flow systems; (34) Computer room air conditioners; (35) Commercial water heating equipment; (36) Commercial warm air furnaces; (37) Commercial packaged boilers; (38) Automatic commercial ice makers; (39) Commercial clothes washers; (40) Distribution transformers; (41) Illuminated exit signs; (42) Traffic signal modules and pedestrian modules; (43) Commercial unit heaters; (44) Commercial pre-rinse spray valves; (45) Refrigerated bottled or canned beverage vending machines; (46) Walk-in coolers and walk-in freezers, including each of the components (doors/panels/refrigeration system); (47) Metal halide lamp ballasts and fixtures; (48) Furnace fans; (49) General service lamps; (50) Unfired hot water storage tanks; (51) Hot water supply boilers; and (52) television sets.

(5) Annual Estimated Number of Respondents: 2000;

(6) Annual Estimated Number of Total Responses: 20,000;

(7) Annual Estimated Number of Burden Hours: 68,000 (3 hours for certification reports, compliance statements, and recordkeeping; 50 hours for test procedure waiver preparation);

(8) Annual Estimated Reporting and Recordkeeping Cost Burden: $6,800,000.

Statutory Authority

Part A of Title III of the Energy Policy and Conservation Act, as amended (42 U.S.C. 6291-6309); 10 CFR parts 429, 430, and 431.

Issued in Washington, DC, on December 18, 2013.
Kathleen Hogan,
Deputy Assistant Secretary for Energy Efficiency, Energy Efficiency and Renewable Energy.

[FR Doc. 2013-30674 Filed 12-23-13; 8:45 am]

BILLING CODE 6450-01-P